FEDERAL COMMUNICATIONS COMMISSION

Notice of Public Information Collection(s) Being Reviewed by the Federal Communications Commission, Comments Requested

October 23, 2001.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before December 31, 2001. If you anticipate that you will be submitting comments, but find it difficult to do so within the period of time allowed by this notice, you should advise the contact listed below as soon as possible.

ADDRESSES: Direct all comments to Les Smith, Federal Communications Commission, 445 12th Street, SW., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control No.: 3060-0856.

Title: Universal Service—Schools and Libraries Universal Service Program Reimbursement Forms.

Form No.: FCC Forms 472, 473 and 474.

Type of Review: Extension.

Respondents: Business or Other for Profit; Not for Profit Institutions.

Number of Respondents: 61,800.

Estimated Time Per Response: 1.42 hours per response (avg).

Total Annual Burden: 88,050 hours.

Estimated Annual Reporting and Recordkeeping Cost Burden: $0.

Frequency of Response: On occasion, Annually, Third Party Disclosure.

Needs and Uses: The Telecommunications Act of 1996 contemplates that discounts on eligible services shall be provided to schools and libraries, and that service providers shall seek reimbursement for the amount of the discounts. FCC Form 472, Billed Entity Applicant Reimbursement Form. The information collected in FCC Form 472 is necessary to enable the fund administrator to pay universal service support to service providers who provide discounted services to eligible schools, libraries, and consortia of those entities. The information collected on the FCC Form 472 is be completed by an applicant to seek reimbursement for payments on approved services and/or products delivered to the applicant from the actual service start date. This information is necessary to identify the amount of the discounts due and owing from the service provider to the applicant, so that the service provider may reimburse this amount to the applicant. FCC Form 473, Service Provider Annual Certification Form. FCC Form 473 is submitted by each service provider or vendor that was assigned a service provider identification number (SPIN) and that participates in the universal service support mechanism for schools and libraries. The purpose of the form is to confirm that, for each Service Provider Invoice Form submitted by the service provider, the Form is in compliance with the FCC's rules governing the schools and libraries universal service support mechanism, and that the Form is true, accurate and complete. FCC Form 474, Service Provider Invoice Form. The Service Provider Invoice Form is to be used by all service providers or vendors who are assigned a SPIN and participate in the universal service support mechanism for schools and libraries. The purpose of FCC Form 474 is for the service provider/vendor to seek reimbursement for the cost of discounts. FCC Form 474 must be received before a service provider participating in the universal service program for schools and libraries can receive payment for the discounted portion of its bill for eligible services to eligible entities.

Federal Communications Commission.
William F. Caton,
Deputy Secretary.

[FR Doc. 01-27226 Filed 10-29-01; 8:45 am]

BILLING CODE 6712-01-P